SECURITIES AND EXCHANGE COMMISSION

[Release No. 34-62430; File No. SR-ISE-2010-69]

Self-Regulatory Organizations; International Securities Exchange, LLC; Notice of Filing and Immediate Effectiveness of Proposed Rule Change Relating To Amending the Direct Edge ECN Fee Schedule; Correction

AGENCY: Securities and Exchange Commission.

ACTION: Notice; correction.

SUMMARY: The Securities and Exchange Commission published a document in the Federal Register of July 8, 2010, concerning a Notice of Filing and Immediate Effectiveness of Proposed Rule Change Relating to Amending the Direct Edge ECN Fee Schedule by the International Securities Exchange, LLC; The document contained a typographical error in several section designations.

FOR FURTHER INFORMATION CONTACT: Yvonne Fraticelli, Division of Trading and Markets, Securities and Exchange Commission, 100 F Street, NE., Washington, DC 20549, (202) 551-5654.

Correction

In the Federal Register of July 8, 2010, in FR Doc. 2010-16668, on page 39313, in the first line of the second column, correct the section designation to read “II.”, and on page 39314, fifth line from the bottom of the first column and in the Solicitation of Comments heading in the second column, correct the section designations to read “III.” and “IV.”, respectively.

Dated: July 9, 2010.
Florence E. Harmon,
Deputy Secretary.

[FR Doc. 2010-17215 Filed 7-14-10; 8:45 am]

BILLING CODE 8010-01-P